DEPARTMENT OF HEALTH AND HUMAN SERVICES

Centers for Medicare and Medicaid Services

[Document Identifier: CMS-R-267]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection; Title of Information Collection: Medicare Plus Choice Program Requirements Referenced in 42 CFR 422.000-422.700; Form No. CMS-R-267 (OMB# 0938-0753); Use:ction 4001 of the Balanced Budget Act of 1997 added sections 1851 through 1859 to the Social Security Act to establish a new Part C of the Medicare Program, known as the Medicare+Choice Program. Under this program, every individual entitled to Medicare Part A and enrolled under Part B may elect to receive benefits through either the existing Medicare fee-for-service program or a Part C M+C Plan. The regulations implementing these sections was published on June 26, 1998. The regulations revising these sections was published on February 17, 1999 and June 29, 2000; Frequency: As Needed; Affected Public: Business or other for-profit, Individuals or Households, federal government, not-for-profit institutions, State, Local or Tribal Gov't.; Number of Respondents: 2,450; Total Annual Responses: 7,657,534; Total Annual Hours: 2,120,006.

To obtain copies of the supporting statement and any related forms for the proposed paperwork collections referenced above, access CMS Web Site address at http://www.hcfa.gov/regs/prdact95.htm, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: July 24, 2002.
John P. Burke, III,
Paperwork Reduction Act Team Leader, CMS Reports Clearance Officer, CMS, Office of Information Services, Security and Standards Group, Division of CMS Enterprise Standards.

[FR Doc. 02-19500 Filed 8-1-02; 8:45 am]

BILLING CODE 4120-03-P